NATIONAL COMMISSION ON LIBRARIES AND INFORMATION SCIENCE

Notice of Open Meeting

AGENCY: U. S. National Commission on Libraries and Information Science.

ACTION: Notice of meetings.

SUMMARY: The U.S. National Commission on Libraries and Information Science is holding an open business meeting to discuss Commission programs and administrative matters. Topics will include a discussion of how the Commission works with the Institute for Museum and Library Services and with the Library of Congress. Leaders of several professional associations will describe their interest in the Commission and its work from their organizations' particular perspectives. Also, Commissioners will review and discuss the NCLIS Strategic Work Plan and the Commission's plans for future activities.

Date and Time: NCLIS Business Meeting—April 21, 2004, 1 p.m. until 5 p.m. April 22, 2004, 9 a.m. until 10:30 p.m., continuing April 22 from 1 p.m. until 5 p.m. April 23 2004, 9 a.m. until 1 p.m.

ADDRESSES: 1110 Vermont Avenue, NW., Suite 820, Washington, DC 20005-3552

Status: Open meeting.

SUPPLEMENTARY INFORMATION: The business meeting is open to the public, subject to space availability. To make special arrangements for physically challenged persons, contact Madeleine McCain, Director of Operations, 1110 Vermont Avenue, NW., Suite 820, Washington, DC 20005, e-mail mmccain@nclis.gov, fax 202-606-9203 or telephone 202-606-9200.

Dated: April 5, 2004.
Madeleine C. McCain,
Director of Operations.

[FR Doc. 04-8192 Filed 4-9-04; 8:45 am]

BILLING CODE 7527-$$-P